DEPARTMENT OF COMMERCE

International Trade Administration

[A-570-904]

Certain Activated Carbon From the People's Republic of China: Notice of Rescission of Changed Circumstances Review

AGENCY: Import Administration, International Trade Administration, Department of Commerce.

DATES: Effective Date: January 7, 2010.

SUMMARY: On January 29, 2009, the Department of Commerce (“Department”) published a notice of initiation and preliminary results of changed circumstance review (“CCR”) of the antidumping duty order on certain activated carbon from the People's Republic of China (“PRC”). See Certain Activated Carbon From the People's Republic of China: Notice of Initiation and Preliminary Results of Changed Circumstances Review, and Intend To Revoke Order in Part, 74 FR 4736 (January 29, 2009) (“Initiation and Preliminary Results”). We are now rescinding this CCR because the Department, on December 7, 2009, resolved the underlying issue for the CCR in a parallel final scope ruling on the same matter.

FOR FURTHER INFORMATION CONTACT: Jerry Huang, AD/CVD Operations, Office 9, Import Administration, International Trade Administration, U.S. Department of Commerce, 1401 Constitution Avenue, NW., Washington, DC 20230; telephone: 202-482-4047.

Background

On November 14, 2008, the Department received a letter from Rolf C. Hagen (USA), Corp. (“Hagen”) requesting a scope ruling that certain fish tank filter products imported by Hagen, that contain no more than 500 grams of activated carbon or a combination of activated carbon and zeolite, are outside the scope of the antidumping order on certain activated carbon from the PRC. See Notice of Antidumping Duty Order: Certain Activated Carbon from the People's Republic of China, 72 FR 20988 (April 27, 2007) (“Order”). On November 20, 2008, Calgon Carbon Corporation and Norit Americas Inc. (collectively, “Petitioners”) submitted comments stating that they agreed with Hagen's scope ruling request. On December 15, 2008, the Department received a request from Hagen for a changed circumstance review and for the Department to revoke, in part, the Order pursuant to sections 751(b)(1) and 782(h)(2) of the Tariff Act of 1930, as amended (“the Act”), with respect to the same products covered by its scope request. On December 17, 2008, Petitioners again submitted comments stating that they agreed with the specific proposed exclusion language contained in Hagen's December 15, 2008, submission. The Department published the Initiation and Preliminary Results on January 29, 2009, and requested public comments on the proposed exclusion language. The Department also extended the deadline for the final results of this CCR. See Certain Activated Carbon From the People's Republic of China: Extension of Time Limit for the Final Results of Changed Circumstances Review, 74 FR 51257 (October 6, 2009).

On December 7, 2009, based on the Department's review of Hagen's scope request, in light of the scope language in the Order, the petition, and the ITC determination, the Department determined in accordance with 19 CFR 351.225(k)(1) that the commercial fish tank filter products described in the Hagen scope request are different from activated carbon which is covered by the scope of the Order. Because we determined the scope language to be dispositive, the Department found the fish tank filter products described in Hagen's request to be outside the scope of the Order pursuant to the criteria within 19 CFR 351.225(k)(1). See Memorandum for John M. Andersen, Acting Deputy Assistant Secretary for Antidumping and Countervailing Duty Operations, from Jerry Huang, International Trade Compliance Analyst, regarding “Final Scope Ruling: Antidumping Duty Order on Certain Activated Carbon from the People's Republic of China,” dated December 7, 2009 (“Final Scope Ruling”).

Scope of Changed Circumstances Review

The merchandise subject to this order is certain activated carbon. Certain activated carbon is a powdered, granular, or pelletized carbon product obtained by “activating” with heat and steam various materials containing carbon, including but not limited to coal (including bituminous, lignite, and anthracite), wood, coconut shells, olive stones, and peat. The thermal and steam treatments remove organic materials and create an internal pore structure in the carbon material. The producer can also use carbon dioxide gas (CO2) in place of steam in this process. The vast majority of the internal porosity developed during the high temperature steam (or CO2 gas) activated process is a direct result of oxidation of a portion of the solid carbon atoms in the raw material, converting them into a gaseous form of carbon.

The scope of this order covers all forms of activated carbon that are activated by steam or CO2, regardless of the raw material, grade, mixture, additives, further washing or post-activation chemical treatment (chemical or water washing, chemical impregnation or other treatment), or product form. Unless specifically excluded, the scope of this order covers all physical forms of certain activated carbon, including powdered activated carbon (“PAC”), granular activated carbon (“GAC”), and pelletized activated carbon.

Excluded from the scope of the order are chemically activated carbons. The carbon-based raw material used in the chemical activation process is treated with a strong chemical agent, including but not limited to phosphoric acid, zinc chloride sulfuric acid or potassium hydroxide, that dehydrates molecules in the raw material, and results in the formation of water that is removed from the raw material by moderate heat treatment. The activated carbon created by chemical activation has internal porosity developed primarily due to the action of the chemical dehydration agent. Chemically activated carbons are typically used to activate raw materials with a lignocellulosic component such as cellulose, including wood, sawdust, paper mill waste and peat.

To the extent that an imported activated carbon product is a blend of steam and chemically activated carbons, products containing 50 percent or more steam (or CO2 gas) activated carbons are within this scope, and those containing more than 50 percent chemically activated carbons are outside this scope. This exclusion language regarding blended material applies only to mixtures of steam and chemically activated carbons.

Also excluded from the scope are reactivated carbons. Reactivated carbons are previously used activated carbons that have had adsorbed materials removed from their pore structure after use through the application of heat, steam and/or chemicals.

Also excluded from the scope is activated carbon cloth. Activated carbon cloth is a woven textile fabric made of or containing activated carbon fibers. It is used in masks and filters and clothing of various types where a woven format is required.

Any activated carbon meeting the physical description of subject merchandise provided above that is not expressly excluded from the scope is included within this scope. The products subject to the order are currently classifiable under the Harmonized Tariff Schedule of the United States (“HTSUS”) subheading 3802.10.00. Although the HTSUS subheading is provided for convenience and customs purposes, the written description of the scope of this order is dispositive.

Rescission of Changed Circumstances Review

The Department initiated this changed circumstance review based on the same issue raised by Hagen in its scope ruling request. As the Department issued its final scope determination on December 9, 2009, that certain fish tank filter products imported by Hagen, that contain no more than 500 grams of activated carbon or a combination of activated carbon and zeolite, are outside the scope of the antidumping order on certain activated carbon from the PRC, the sole issue in this CCR is moot, as it has been resolved in the parallel scope proceeding. Accordingly, the Department is now rescinding this CCR. Hagen's request that its products are outside the scope of the Order and Petitioners' comments supporting that request are fully detailed in the Department's scope determination. See Final Scope Ruling.

This notice serves as a reminder to parties subject to administrative protective orders (“APOs”) of their responsibility concerning the disposition of proprietary information disclosed under APO in accordance with 19 CFR 351.306. Timely written notification of the return/destruction of APO materials or conversion to judicial protective order is hereby requested. Failure to comply with the regulations and terms of an APO is a violation which may be subject to sanction.

This notice is issued and published in accordance with sections 751(b)(1) and 777(i)(1) of the Tariff Act of 1930, as amended, and 19 CFR 351.216.

Dated: December 22, 2009.
John M. Andersen,
Acting Deputy Assistant Secretary for Antidumping and Countervailing Duty Operations.

[FR Doc. E9-31419 Filed 1-6-10; 8:45 am]

BILLING CODE 3510-DS-P